DEPARTMENT OF DEFENSE

Defense Acquisition Regulations System

48 CFR Part 201

Defense Federal Acquisition Regulation Supplement; Technical Amendments

AGENCY: Defense Acquisition Regulations System, Department of Defense (DoD).

ACTION: Final rule.

SUMMARY: DoD is making technical amendments to the Defense Federal Acquisition Regulation Supplement (DFARS) to update a subpart heading and a reference to a DoD publication.

EFFECTIVE DATE: April 23, 2008.

FOR FURTHER INFORMATION CONTACT: Ms. Michele Peterson, Defense Acquisition Regulations System, OUSD (AT&L) DPAP (DARS), IMD 3D139, 3062 Defense Pentagon, Washington, DC 20301-3062. Telephone 703-602-0311; facsimile 703-602-7887.

SUPPLEMENTARY INFORMATION: This final rule amends DFARS text as follows:

○ Subpart 201.6. Revises the subpart heading for consistency with the corresponding subpart of the Federal Acquisition Regulation.

○ Section 201.603-2. Updates references to a DoD publication addressing career development.

List of Subjects in 48 CFR Part 201

Government procurement.

Michele P. Peterson,
Editor, Defense Acquisition Regulations System.

Therefore, 48 CFR Part 201 is amended as follows:

PART 201—FEDERAL ACQUISITION REGULATIONS SYSTEM

1. The authority citation for 48 CFR Part 201 continues to read as follows:

Authority: 41 U.S.C. 421 and 48 CFR Chapter 1.

2. The heading of subpart 201.6 is revised to read as follows:

Subpart 201.6—Career Development, Contracting Authority, and Responsibilities

3. Section 201.603-2 is amended by revising the second sentence of paragraph (2)(iii) and the second sentence of paragraph (3) to read as follows:

201.603-2 Selection.

* * * * *

(2) * * *

(iii) * * * Information on developmental opportunities is contained in DoD Instruction 5000.66, Operation of the Defense Acquisition, Technology, and Logistics Workforce Education, Training, and Career Development Program.

(3) * * * Information on waivers is contained in DoD Instruction 5000.66.

[FR Doc. E8-8698 Filed 4-22-08; 8:45 am]

BILLING CODE 5001-08-P